DEPARTMENT OF TRANSPORTATION

Federal Railroad Administration

[Docket Number FRA-2018-0059]

Petition for Waiver of Compliance

Under part 211 of Title 49 of the Code of Federal Regulations (CFR), this document provides the public notice that on July 26, 2018, the Grand Canyon Railway (GCRY) has petitioned the Federal Railroad Administration (FRA) for a waiver of compliance from certain provisions of the Federal railroad safety regulations contained at 49 CFR part 230, Steam Locomotive Inspection and Maintenance Standards. FRA assigned the petition docket number FRA-2018-0059. GCRY maintains and operates No. 29, a 2-8-0 “Consolidation” type steam locomotive built by the American Locomotive Works in 1906 for the Lake Superior & Ishpeming Railroad. GCRY occasionally operates No. 29 to pull excursion trains from Williams, AZ, to the Depot at the rim of the Grand Canyon.

GCRY requests relief from performing the 1,472 service day inspection (SDI), for No. 29, as it pertains to the inspection of the boiler every 15 calendar years or 1,472 service days. See 49 CFR 230.17. This relief would extend the inspection date from May 2, 2019, to the completion of the GCRY operating season on October 31, 2019. It is expected that they would accrue approximately 15 service days during this extension period. At the last annual inspection, the locomotive accrued 410 service days toward the allowable 1,472 service days. GCRY also requests relief from performing the annual inspection required by 49 CFR 230.16. This relief would extend the current annual inspection by only 15 service days.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by October 1, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

John K. Alexy,
Deputy Associate Administrator for Railroad Safety.

[FR Doc. 2018-17516 Filed 8-14-18; 8:45 am]

BILLING CODE 4910-06-P